SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 13, 2011.

ADDRESSES: Send all comments regarding whether these information collections are necessary for the proper performance of the function of the agency, whether the burden estimates are accurate, and if there are ways to minimize the estimated burden and enhance the quality of the collection, to Jody Raskind, Chief, Microenterprise Development Branch, Small Business Administration, 409 3rd Street, 8th Floor, Washington, DC 20416.

FOR FURTHER INFORMATION CONTACT: Jody Raskind, mail to: Chief, Microenterprise Development Branch, 202-205-7076 or jody.raskind@sba.gov; Curtis B. Rich, Management Analyst, 202-205-7030 or curtis.rich@sba.gov.

SUPPLEMENTARY INFORMATION: Information collection is needed to ensure that Microloan Program activity meets the statutory goals of assisting the statutorily mandated target market. The information is used by the reporting participants and the SBA to assist with portfolio management, risk management, loan servicing and collections and to enable SBA to ensure that targeted groups are long served, and understand trends over time. It's also allows SBA to monitor use of funds ensure compliance and provide education.

Title: “Microloan Program Electronic Reporting System MPERS)”

Description of Respondents: Microloan Program Intermediary Lenders.

Form Number: N/A.

Annual Responses: 2,500.

Annual Burden: 625.

SUPPLEMENTARY INFORMATION: The information collected through this online application form will be scored and used to determine the eligibility and qualifications of interested non-profit applicants. SBA will evaluate applications using four major categories: The applicant organization's strengths and weaknesses; its history of providing microloans and technical assistance; the qualifications of its governing board, officers, and key staff; and its financial health. Qualified non-profit applicants will be selected to partner with the SBA as Microloan Program Intermediary Lenders for the purpose of providing microloans (loans of $50,000 or less), and business based training and technical assistance to eligible small businesses.

Title: “New Microloan Intermediary Lender Application”

Description of Respondents: Microloan Program Intermediary Lender Applicants.

Form Number: N/A.

Annual Responses: 25.

Annual Burden: 9.

Jacqueline White,
Chief, Administrative Information Branch.

[FR Doc. 2011-5844 Filed 3-11-11; 8:45 am]

BILLING CODE 8025-01-P